DEPARTMENT OF TRANSPORTATION

Federal Aviation Administration

14 CFR Part 91

[Docket No. FAA-2007-29305; Notice No. 07-15]

RIN 2120-AI92

Automatic Dependent Surveillance—Broadcast (ADS-B) Out Performance Requirements to Support Air Traffic Control (ATC) Service; Extension of Comment Period

AGENCY: Federal Aviation Administration (FAA), DOT.

ACTION: Notice of proposed rulemaking (NPRM); extension of comment period.

SUMMARY: This action extends the comment period for an NPRM that was published on October 5, 2007. In that document, the FAA proposed performance requirements for certain avionics equipment on aircraft operating in specified classes of airspace within the United States National Airspace System. This extension is a result of requests from the: Air Transport Association of America, Inc., Air Carrier Association of America, Civil Aviation Aerospace Industries Association, National Air Carrier Association, and Regional Airline Association; Aircraft Owners and Pilots Association; and Cargo Airline Association to extend the comment period to the proposal.

DATES: The comment period for the NPRM published on October 5, 2007 (72 FR 56947), scheduled to close on January 3, 2008, is extended until March 3, 2008.

ADDRESSES: You may send comments identified by Docket Number FAA-2007-29305 using any of the following methods:

• Federal eRulemaking Portal: Go to http://www.regulations.gov and follow the instructions for sending your comments electronically.

• Mail: Send comments to Docket Operations, M-30, U.S. Department of Transportation, 1200 New Jersey Avenue, SE., West Building Ground Floor, Room W12-140, Washington, DC 20590.

• Fax: Fax comments to Docket Operations at 202-493-2251.

• Hand Delivery: Bring comments to Docket Operations in Room W12-140 of the West Building Ground Floor at 1200 New Jersey Avenue, SE., Washington, DC, between 9 a.m. and 5 p.m., Monday through Friday, except Federal holidays.

For more information on the rulemaking process, see the SUPPLEMENTARY INFORMATION section of this document.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78) or you may visit http://DocketsInfo.dot.gov.

Docket: To read background documents or comments received, go to http://www.regulations.gov at any time or to Docket Operations in Room W12-140 of the West Building Ground Floor at 1200 New Jersey Avenue, SE., Washington, DC, between 9 a.m. and 5 p.m., Monday through Friday, except Federal holidays.

FOR FURTHER INFORMATION CONTACT: Cindy Nordlie, ARM-108, Office of Rulemaking, Federal Aviation Administration, 800 Independence Avenue, SW., Washington, DC 20591, telephone (202) 267-7627.

SUPPLEMENTARY INFORMATION:

Comments Invited: The FAA invites interested persons to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, please send only one copy of written comments, or if you are filing comments electronically, please submit your comments only one time.

We will file in the docket all comments we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Availability of Rulemaking Documents

You can get an electronic copy using the Internet by:

(1) Searching the Federal eRulemaking Portal at http://www.regulations.gov;

(2) Visiting the Office of Rulemaking's Web page at http://www.faa.gov/avr/arm/index.cfm; or

(3) Accessing the Government Printing Office's Web page at http://www.gpoaccess.gov/fr/index.html.

You can also get a copy by sending a request to the Federal Aviation Administration, Office of Rulemaking, ARM-1, 800 Independence Avenue, SW., Washington, DC 20591, or by calling (202) 267-9680. Make sure to identify the docket number, notice number, or amendment number of this rulemaking.

Proprietary or Confidential Business Information

Do not file in the docket information that you consider to be proprietary or confidential business information. Send or deliver this information directly to the person identified in the FOR FURTHER INFORMATION CONTACT section of this document. You must mark the information that you consider proprietary or confidential. If you send the information on a disk or CD-ROM, mark the outside of the disk or CD-ROM and also identify electronically within the disk or CD-ROM the specific information that is proprietary or confidential.

Under 14 CFR 11.35(b), when we are aware of proprietary information filed with a comment, we do not place it in the docket. We hold it in a separate file to which the public does not have access, and place a note in the docket that we have received it. If we receive a request to examine or copy this information, we treat it as any other request under the Freedom of Information Act (5 U.S.C. 552). We process such a request under the DOT procedures found in 49 CFR part 7.

Background

On October 5, 2007, the Federal Aviation Administration (FAA) issued Notice No. 07-15, Automatic Dependent Surveillance—Broadcast (ADS-B) Out performance requirements to support Air Traffic Control (ATC) service (72 FR 56947; October 5, 2007). Comments to that document were to be received on or before January 3, 2008.

By request submitted to the docket on October 19, 2007, the Air Transport Association of America, Inc., Air Carrier Association of America, Civil Aviation Aerospace Industries Association, National Air Carrier Association, and Regional Airline Association requested that the FAA extend the comment period for Notice No. 07-15 for 60 days. The organizations requesting an extension noted that commenters “will have to develop as much information as possible as to future costs associated with implementing a final rule in order to provide meaningful input.” They also noted that the holiday season falls within the comment period and that the comment period is scheduled to close just after New Year's Day. Because of the importance of the rulemaking, in terms of advancing Air Traffic modernization, and the potential costs on the aviation industry that would result from a final rule, they requested that the public comment period be extended for an additional 60 days.

In addition, on November 1, 2007, the Aircraft Owners and Pilots Association submitted a request to extend the comment period for Notice No. 07-15 for 60 days. They noted that additional “time is needed to assess questions surrounding making a final rule that is financially feasible for general aviation, improves ATC services at general aviation airports, results in user cost avoidance, and improves general aviation safety.”

On November 5, 2007, the Cargo Airline Association submitted a request to extend the comment period for Notice No. 07-15 for 60 days. They noted the extension was needed to provide meaningful input to the rulemaking process.

The FAA concurs with the petitioners' request for an extension of the comment period on Notice No. 07-15 for an additional 60 days, until March 3, 2008. We must balance the length of the comment period against the need to proceed expeditiously with a key component in managing the anticipated growth in the use of the National Airspace System. The FAA believes an additional 60 days would be adequate for commenters to collect cost and operational data necessary to provide meaningful comment to Notice No. 07-15. The FAA does not anticipate any further extension of the comment period for this rulemaking.

Extension of Comment Period

In accordance with section 11.47(c) of title 14, Code of Federal Regulations, the FAA has reviewed the requests submitted by the: Air Transport Association of America, Inc., Air Carrier Association of America, Civil Aviation Aerospace Industries Association, National Air Carrier Association, and Regional Airline Association; Aircraft Owners and Pilots Association; and Cargo Airline Association for extension of the comment period to Notice No. 07-15. These petitioners have shown a substantive interest in the proposed rule and good cause for the extension. The FAA has determined that extension of the comment period is consistent with the public interest, and that good cause exists for taking this action.

Accordingly, the comment period for Notice No. 07-15 is extended until March 3, 2008.

Issued in Washington, DC, on November 13, 2007.
Edie Parish,
Acting Director, System Operations, Airspace and AIM Office.

[FR Doc. E7-22544 Filed 11-16-07; 8:45 am]

BILLING CODE 4910-13-P